DEPARTMENT OF THE TREASURY

Internal Revenue Service

26 CFR Part 1

[TD 9321]

RIN 1545-BE79

Application of Section 409A to Nonqualified Deferred Compensation Plans; Correction

AGENCY: Internal Revenue Service (IRS), Treasury.

ACTION: Correction.

SUMMARY: This document contains corrections to a correcting amendment to final regulations (TD 9321) that was published in the Federal Register on October 7, 2008 (73 FR 58438). The final regulations relate to section 409A and nonqualified deferred compensation plans.

DATES: This correction is effective October 23, 2008.

Applicability date: April 17, 2007.

FOR FURTHER INFORMATION CONTACT: Guy R. Traynor, (202) 622-3693 (not a toll-free number).

SUPPLEMENTARY INFORMATION:

Background

The final regulations that are subject to this document are under section 409A of the Internal Revenue Code.

Need for Correction

As published, the correcting amendment of September 24, 2008 (73 FR 54945) to final regulations (TD 9321) contains errors that may prove to be misleading and are in need of clarification.

Correction of Publication

Accordingly, the publication of the correcting amendment to final regulations (TD 9321), which were the subject of FR Doc. E8-23652, is corrected as follows:

1. On page 58438, column 2, in the first sentence of the “Summary” section of the preamble the language “This document contains corrections to final regulations (TD 9321) which were published in the Federal Register on April 17, 2007 (72 FR 19323), corrected July 31, 2007 (72 FR 41620) and September 24, 2007 (72 FR 54945).”, is corrected to read “This document contains corrections to final regulations (TD 9321) which were published in the Federal Register on April 17, 2007 (72 FR 19323), corrected July 31, 2007 (72 FR 41620), and September 24, 2008 (73 FR 54945).

2. On page 58438, column 2, in the “Need for Correction” section of the preamble the language “As published, the correcting amendment of September 24, 2008 (72 FR 54945) to final regulations (TD 9321) contains errors that may prove to be misleading and is in need of clarification.” is corrected to read “As published, the correcting amendment of September 24, 2008 (73 FR 54945) to final regulations (TD 9321) contains errors that may prove to be misleading and is in need of clarification.”

Guy R. Traynor,
Federal Register Liaison, Legal Processing Division, Associate Chief Counsel (Procedure and Administration).

[FR Doc. E8-25234 Filed 10-22-08; 8:45 am]

BILLING CODE 4830-01-P